NUCLEAR REGULATORY COMMISSION

Advisory Committee on Nuclear Waste; Notice of Meeting

The Advisory Committee on Nuclear Waste (ACNW) will hold its 129th meeting on August 28-30, 2001, at 11545 Rockville Pike, Rockville, Maryland, Room T-2B3.

The entire meeting will be open to public attendance.

The schedule for this meeting is as follows:

Tuesday, August 28, 2001

A. 8:30-10:15 A.M.: Opening Statement/Planning and Procedures (Open)—The Chairman will open the meeting with brief opening remarks. The Committee will then review items under consideration at this meeting and consider topics proposed for future ACNW meetings.

B. 10:30-12:00 P.M.: Status of Sufficiency Review (Open)—The Committee will receive an information briefing from the NRC staff on the status of their sufficiency comments.

C. 1:30-3:30 P.M.: DOE's Supplemental Science and Performance Analysis (SSPA) (Open)—The Committee will hear a status report from DOE on its SSPA.

D. 3:45-7:00 P.M.: Discussion of Proposed ACNW Reports (Open)—The Committee will discuss proposed ACNW reports on Sufficiency Comments, Research Plan for Radionuclide Transport: Prioritization Methods, Greater-Than-Class C Waste and Sealed Sources, Yucca Mountain Igneous Activity Analyses and Comments on Regulatory Conservatism.

Wednesday, August 29, 2001

E. 8:30-8:40 A.M.: Opening Remarks by the ACNW Chairman (Open)—The ACNW Chairman will make opening remarks regarding the conduct of the meeting.

F. 8:40-10:15 A.M.: Briefing by Deputy Director, NMSS (Open)—Ms. Federline will address the Committee on items of mutual interest.

G. 10:30-12:30 P.M.: Update: Total System Performance Assessment and Integration (TSPA&I) (Open)—The Committee will hear a presentation by the NRC staff on the TSPAI technical exchange and management meeting with DOE held August 6-9, 2001.

H. 2:00-2:30 P.M.: Research Working Group (Open)—The Committee will discuss plans for the subject working group which is to be held during the 131st ACNW Meeting.

I. 2:30-4:00 P.M.: DOE-Yucca Mountain Preclosure Plans (Open)—The Committee will hear a briefing by and hold discussions with representatives of DOE on its current preclosure plans and activities for the proposed HLW repository at Yucca Mountain.

J. 4:15-7:00 P.M.: Preparation of ACNW Reports (Open)—The Committee will discuss proposed reports.

Thursday, August 30, 2001

K. 8:30-8:35 A.M.: Opening Remarks by the ACNW Chairman (Open)—The ACNW Chairman will make opening remarks regarding the conduct of the meeting.

L. 8:35-9:30 A.M.: Preparations for October Visit to Nevada (Open)—The Committee will finalize topics, agenda and public outreach sessions for the trip to Nevada, as well as plans for a visit prior to the October meeting by Members to the Envirocare Facility in Utah.

M. 9:30-2:45 P.M.: Discussion of Proposed ACNW Reports (Open)—The Committee will continue its discussion of proposed ACNW reports.

N. 2:45-3:00 P.M.: Miscellaneous (Open)—The Committee will discuss matters related to the conduct of Committee activities and matters and specific issues that were not completed during previous meetings, as time and availability of information permit.

Procedures for the conduct of and participation in ACNW meetings were published in the Federal Register on October 11, 2000 (65 FR 60475). In accordance with these procedures, oral or written statements may be presented by members of the public, electronic recordings will be permitted only during those portions of the meeting that are open to the public, and questions may be asked only by members of the Committee, its consultants, and staff. Persons desiring to make oral statements should notify Howard J. Larson, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Larson as to their particular needs.

Further information regarding topics to be discussed, whether the meeting has been canceled or rescheduled, the Chairman's ruling on requests for the opportunity to present oral statements and the time allotted therefore can be obtained by contacting Mr. Howard J. Larson, ACNW (Telephone 301/415-6805), between 8:00 A.M. and 4:00 P.M. EDT.

ACNW meeting notices, meeting transcripts, and letter reports are now available for downloading or viewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EDT at least 10 days before the meeting to ensure the availability of this service. Individuals or organizations requesting this service will be responsible for telephone line charges and for providing the equipment and facilities that they use to establish the videoteleconferencing link. The availability of videoteleconferencing services is not guaranteed.

Dated: August 3, 2001.
Andrew L. Bates,
Advisory Committee Management Officer.

[FR Doc. 01-19992 Filed 8-8-01; 8:45 am]

BILLING CODE 7590-01-P